DEPARTMENT OF THE INTERIOR

National Park Service

[NPS-WASO-NAGPRA-NPS0038289; PPWOCRADN0-PCU00RP14.R50000]

Notice of Intended Repatriation: Museum of Us, San Diego, CA

AGENCY: National Park Service, Interior.

ACTION: Notice.

SUMMARY: In accordance with the Native American Graves Protection and Repatriation Act (NAGPRA), the Museum of Us intends to repatriate certain cultural items that meet the definition of objects of cultural patrimony and that have a cultural affiliation with the Indian Tribes or Native Hawaiian organizations in this notice.

DATES: Repatriation of the cultural items in this notice may occur on or after August 19, 2024.

ADDRESSES: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us, and additional information on the determinations in this notice, including the results of consultation, can be found in the summary or related records. The National Park Service is not responsible for the determinations in this notice.

Abstract of Information Available

A total of 176 cultural items from five sites have been requested for repatriation. One object of cultural patrimony removed from Flint Mound (CV-17; CA-SAC-115) in lower Sacramento, Sacramento County, CA, includes one baked clay effigy. One object of cultural patrimony removed from Tamien Village Site (CV-21) in northern Sacramento, Sacramento County, CA, includes one string of stone disc beads. The 13 objects of cultural patrimony removed from Easter Mound (CV-23) near Elk Grove, Sacramento, Sacramento County, CA, includes one small set of disc beads, one set of Olivella beads, five Haliotis ornaments, one set of small miscellaneous ornaments, one bone button, and four miscellaneous stone pieces. The 159 objects of cultural patrimony removed from Jacobs Mound (CV-27) in Sacramento County, CA, include 159 clam shell disc bead blanks. The two objects of cultural patrimony from Jimeno Mound (CV-29) near Grand Island, Sacramento County, CA, include one string of clam shell disc beads, and one lot of loose glass trade beads.

Between 1930 and 1936, the 176 objects of cultural patrimony were removed by Henry Gibbs, a private collector and looter. In 1937, Paul A. Walker purchased Gibbs' Central Valley, California archeological collection. Walker was an amateur archeologist and collector who worked by himself and with other amateur archeologists, and in collaboration with the University of California and Sacramento Junior College. Over the course of his life, Walker amassed an extensive archeological collection from California's Central Valley and smaller collections from Northern and Southern California, and outside of California. In 1968, Walker's private archeological collection was acquired by the San Diego Museum of Man (now Museum of Us) through a purchase/donation transaction with Walker's widow, Bessie B. Walker.

Determinations

The Museum of Us has determined that:

• The 176 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 19, 2024. If competing requests for repatriation are received, the Museum of Us must determine the most appropriate requestor prior to repatriation. Requests for joint repatriation of the cultural items are considered a single request and not competing requests. The Museum of Us is responsible for sending a copy of this notice to the Indian Tribes and Native Hawaiian organizations identified in this notice and to any other consulting parties.

Authority: Native American Graves Protection and Repatriation Act, 25 U.S.C. 3004 and the implementing regulations, 43 CFR 10.9.

Dated: July 10, 2024.
Melanie O'Brien,
Manager, National NAGPRA Program.

[FR Doc. 2024-15834 Filed 7-17-24; 8:45 am]

BILLING CODE 4312-52-P